DEPARTMENT OF COMMERCE

Foreign-Trade Zones Board

[B-75-2021]

Foreign-Trade Zone (FTZ) 41—Milwaukee, Wisconsin Notification of Proposed Production Activity GXO Logistics (Thermal Transfer Printers, Data Transmission Devices and Accessories Kitting) Kenosha, Wisconsin

GXO Logistics submitted a notification of proposed production activity to the FTZ Board (the Board) for its facility in Kenosha, Wisconsin under FTZ 41. The notification conforming to the requirements of the Board's regulations (15 CFR 400.22) was received on November 8, 2021.

Pursuant to 15 CFR 400.14(b), FTZ production activity would be limited to the specific foreign-status components and specific finished products described in the submitted notification (summarized below) and subsequently authorized by the Board. The benefits that may stem from conducting production activity under FTZ procedures are explained in the background section of the Board's website—accessible via www.trade.gov/ftz.

The proposed finished products include: Thermal transfer printers; thermal transfer printer parts and components including kits and bundles; mobile computers, tablets, and handheld devices; mobile computer input/output units—barcode/image readers; vehicle mounted computers; optical readers or barcode scanners or imagers; inventory data transmission devices with phone capability (wireless wide area network); inventory data transmission devices (wireless local area network); cradle chargers with ethernet; cradle chargers and cradle chargers (standard); radio frequency identification (RFID) tag reader module, signal transmission—antennae or beacons; RFID antennae; RFID tags/labels; intelligent cabinet for data transmission devices; location system WhereTag tags; location system receivers; location system beacons; location system hubs; aftermarket kit (AMK) replacement plastic labels for printers; AMK replacement paper labels for printers; AMK replacement cutter and peeler components for printers; AMK repair/replacement components for printers; pick to order kits (PTO) paper labels; PTO power supplies/chargers; PTO repair and replacement parts for enterprise virtual machine (EVM) data transmission products; and, PTO repair and replacement parts for EVM mobile handheld devices (duty rate ranges from duty-free to 5.8%).

The proposed foreign-status components include: Printhead cleaning pens; plastic labels; paper labels; plastic screen protectors and name plates; plastic o-rings and sponge pads and spacers for vibration control; instruction sheets; instruction booklets, manuals, guides; steel screws; helical spring lock washers; steel washers (not spring or lock); wire helical springs; thermal transfer printer printed circuit board assemblies; thermal transfer printer housing parts including capacitors, inductors, resistors, electrical connectors, diodes and transistors; inductor/electromagnetic interference (EMI) ferrite chip beads; mobile computer input output unit components—keyboards and keypads; mobile computer input unit—barcode scanners; barcode scanners, scan engines and imagers; parts/components and accessories of mobile computers and handheld devices—printed circuit board assemblies, housing back, front and ends; clutch for printers; gears and transmission shafts for printers; coaxial cables; cables with fitted with connectors for telecommunications; power cables and extension cords fitted with connectors; data cable fitted with connectors; RFID tags/labels; integrated circuits, controllers or processors; integrated circuit memories, programmable; cradle charger bases and cups (standard/ethernet); power supplies; lithium battery cells; lithium-ion batteries; parts and components of Inventory data transmission devices—housing components, electrical components antennae, printed circuit board assemblies, scanner assemblies, flexible printed circuit assemblies; single loudspeakers; antenna filter kits; radio frequency antennas housing and mounting components; and, cartridge fuses (duty rate ranges from duty-free to 6.2%). The request indicates that helical spring lock washers is subject to an antidumping/countervailing duty (AD/CVD) order if imported from certain countries. The Board's regulations (15 CFR 400.14(e)) require that merchandise subject to AD/CVD orders, or items which would be otherwise subject to suspension of liquidation under AD/CVD procedures if they entered U.S. customs territory, be admitted to the zone in privileged foreign status (19 CFR 146.41). The request also indicates that certain components are subject to duties under Section 301 of the Trade Act of 1974 (Section 301), depending on the country of origin. The applicable Section 301 decisions require subject merchandise to be admitted to FTZs in privileged foreign status.

Public comment is invited from interested parties. Submissions shall be addressed to the Board's Executive Secretary and sent to: ftz@trade.gov. The closing period for their receipt is December 29, 2021.

A copy of the notification will be available for public inspection in the “Online FTZ Information System” section of the Board's website.

For further information, contact Christopher Wedderburn at Chris.Wedderburn@trade.gov.

Dated: November 15, 2021.
Camille R. Evans,
Acting Executive Secretary.

[FR Doc. 2021-25256 Filed 11-18-21; 8:45 am]

BILLING CODE 3510-DS-P